ENVIRONMENTAL PROTECTION AGENCY

[EPA-HQ-OPP-2018-0805; FRL-9987-54]

Pesticides; Petition Seeking Rulemaking or a Formal Agency Interpretation for Planted Seeds Treated With Systemic Insecticides; Request for Comment

AGENCY: Environmental Protection Agency (EPA).

ACTION: Notice.

SUMMARY: EPA is seeking public comment on a petition from the Center for Food Safety (CSF) requesting that the Agency either initiate a rulemaking or issue a formal Agency interpretation for planted seeds treated with systemic insecticides. CSF believes that the Agency has improperly applied the treated article exemption in exempting these products from registration and labeling requirements under the Federal Insecticide, Fungicide, and Rodenticide Act (FIFRA).

DATES: Comments must be received on or before March 26, 2019.

ADDRESSES: Submit your comments, identified by docket identification (ID) number EPA-HQ-OPP-2018-0805, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Connie Hernandez, Field and External Affairs Division, Office of Pesticide Programs, Environmental Protection Agency, 1200 Pennsylvania Ave. NW, Washington, DC 20460-0001; telephone number: (703) 305-5190; email address: hernandez.connie@epa.gov.

SUPPLEMENTARY INFORMATION:

I. Does this action apply to me?

This action is directed to the public in general and may be of interest to a wide range of stakeholders including pesticide registrants, environmental, human health, and agricultural advocates, pesticide users, and members of the public interested in the use of pesticides. This listing is not intended to be exhaustive but rather provides a guide for readers regarding entities likely to be affected by his action. Because others may also be interested, the Agency has not attempted to describe all the specific entities that may be affected by this action. If you have any questions regarding the applicability of this action to a particular entity, consult the person listed under FOR FURTHER INFORMATION CONTACT.

II. What action is the agency taking?

EPA requests public comment on a petition received from CFS that asks EPA to take the following actions:

1. Amend or formally reinterpret the Treated Article Exemption in 40 CFR 152.25(a) to clarify whether the exemption applies to seeds treated with systemic insecticides intended to kill pests of the plants.

2. Enforce FIFRA's registration and labeling requirements for seed products coated with systemic pesticides.

A copy of the petition is available in the docket.

III. What should I consider as I prepare my comments for EPA?

Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

When preparing and submitting your comments, see the commenting tips at http://www.epa.gov/dockets/comments.html.

Authority: 7 U.S.C. 136 et seq.

Dated: December 11, 2018,
Richard Keigwin,
Director, Office of Pesticide Programs.

[FR Doc. 2018-27780 Filed 12-21-18; 8:45 am]

BILLING CODE 6560-50-P